GENERAL SERVICES ADMINISTRATION

Federal Travel Regulation (FTR)

Maximum Per Diem Rates for Colorado, Florida and Texas

AGENCY: Office of Governmentwide Policy, General Services Administration (GSA).

ACTION: Notice of Per Diem Bulletin 05-3, revised continental United States (CONUS) per diem rates.

SUMMARY: The General Services Administration (GSA) has reviewed the lodging rates of certain locations in the States of Colorado, Florida and Texas and determined that they are inadequate. The per diems prescribed in Bulletin 05-3 may be found at http://www.gsa.gov/perdiem.

DATES: This notice is effective December 17, 2004 and applies to travel performed on or after December 27, 2004.

FOR FURTHER INFORMATION CONTACT: For clarification of content, contact Lois Mandell, Office of Governmentwide Policy, Travel Management Policy, at (202) 501-2824. Please cite FTR Per Diem Bulletin 05-3.

SUPPLEMENTARY INFORMATION:

A. Background

After an analysis of the per diem rates established for FY 2005 (see the Federal Register notices at 69 FR 53071, August 31, 2004, and 69 FR 60152, October 7, 2004), the per diem rate is being changed in the following locations:

State of Colorado

• City of Aurora

State of Florida

• Brevard County

State of Texas

• Dallas County

B. Procedures

Per diem rates are published on the Internet at www.gsa.gov/perdiem as an FTR Per Diem Bulletin and published in the Federal Register on a periodic basis. This process ensures timely increases or decreases in per diem rates established by GSA for Federal employees on official travel within CONUS. Notices published periodically in the Federal Register, such as this one, now constitute the only notification of revisions in CONUS per diem rates to agencies.

Dated: Decenber 13, 2004.
Thomas J. Horan,
Deputy to the Deputy Associate Administrator, Office of Transportation and Personal Property.

[FR Doc. 04-27605 Filed 12-16-04; 8:45 am]

BILLING CODE 6820-14-S